DEPARTMENT OF THE TREASURY

Senior Executive Service Departmental Offices 2003 Performance/Bonus Review Board

August 28, 2003.

AGENCY: Treasury Department.

ACTION: Notice of Members of the Departmental Offices Performances/Bonus Review Board.

SUMMARY: Pursuant to 5 U.S.C. 4314(c)(4), this notice announces the appointment of members of the Departmental Offices Performance/Bonus Review Board. The purpose of this Board is to review and make recommendations concerning proposed Performance appraisals, ratings, bonuses and other appropriate personnel actions for incumbents of SES positions.

Composition of Departmental Board: The Board shall consist of at least three members. In the case of an appraisal of a career appointee, more than half the members shall consist of career appointees. The names and titles of the Boards members are as follows:

Adams, Timothy, Chief of Staff

Bezdek, Roger, Senior Advisor for Fiscal Management

Cameron Jr., Arthur, DAS (Appropriations & Management)

Carleton, Norman, Director, Office of Federal Finance & Policy Analysis

Conteras, Rebecca, Human Capital Officer

Demarco, Edward, Director, Office of Government Sponsored Enterprises Policy

Dohner, Robert, Senior Advisor to DAS (International Monetary & Financial Policy)

Fall III, James, DAS (Technical Assistance Policy)

Froehlich, Carl, Director, Office of Strategic Planning

Gerardi, Geraldine, Director for Business Taxation

Hammond, Donald, Fiscal Assistant Secretary

Hudson, Barry, Deputy Chief Financial Officer

Kiefer, Donald, Director, Office of Tax Analysis

Lee, Nancy, DAS (Eurasia & Middle East)

Lingebach, James, Director, Accounting & Internal Control

Lingrell, David, Director, Treasury Building & Annex Restoration & Renovation Building Program

Loevinger, David, Director, Office of East Asian Nations

Lyon, Andrew, DAS (Tax Analysis)

Mathiasen, Karen, Director, Office of Central & Eastern European Nations

McFadden, William, Senior Policy Advisor

Monroe, David, Director, Office of Cash and Debt Management

Murden, William, Director, Office of International Banking & Security Markets

Newcomb, Robert, Director, Office of Foreign Assets

Nunns, James, Director for Individual Taxation

Platt, Joel, Director for Revenue Estimating

Randolph, William, Director for International Taxation

Reid, Robert, DAS for Accounting Operations

Romey, Michael, Special Assistant to the Secretary (National Security)

Schuerch, William, Deputy Assistant Secretary (International Development, Debt & Environment Policy)

Shaw, Mary Beth, Director, DC Pensions Project Office

Sills, Gay, Director, Office of International Investment

Smith III, George, Director, Office of Technical Assistance

Sobel, Mark, Deputy Assistant Secretary (International Monetary & Financial Policy)

Solomon, Eric, DAS (Regulatory Affairs)

Stedman, Louellen, Director, Office International Monetary Affairs

Tvardek, Steven, Director, Office of Trade Finance

Warthin, Thomas, Director, Office of Financial Services Negotiations

Wright Jr., Earl, Workforce Management

DATES: Membership is effective on the date of this notice.

FOR FURTHER INFORMATION CONTACT: Cathy Hickson-Smith, Department of the Treasury, Office of Human Resources, HR Management Specialist, 15th and Pennsylvania Ave., NW., Washington,DC 20220, Telephone: 202-622-1690.

This notice does not meet the Department's criteria for significant Regulations.
Catherine Hickson-Smith,
Human Resources Management Specialist.

[FR Doc. 03-23517 Filed 9-15-03; 8:45 am]

BILLING CODE 4811-20-M